DEPARTMENT OF STATE

[Public Notice 5942]

Bureau of International Security and Nonproliferation; Determination Under the Arms Export Control Act

AGENCY: Department of State.

ACTION: Notice.

Pursuant to Section 654(c) of the Foreign Assistance Act of 1961, as amended, notice is hereby given that the Assistant Secretary of State for International Security and Nonproliferation has made a determination pursuant to Section 73 of the Arms Export Control Act and has concluded that publication of the determination would be harmful to the national security of the United States.

Dated: September 20, 2007.
John C. Rood,
Assistant Secretary of State for International Security and Nonproliferation, Department of State.

[FR Doc. E7-19000 Filed 9-25-07; 8:45 am]

BILLING CODE 4710-27-P